DEPARTMENT OF ENERGY

Federal Energy Regulatory Commission

[Docket No. EL06-30-000]

California Electricity Oversight Board; People of the State of California, ex rel. Bill Lockyer, Attorney General, California Department of Water Resources v. Calpine Energy Services, LP., Calpine Corporation, Power Contract Financing, LLC. and Gilroy Energy Center, LLC.; Notice of Complaint; Notice of Complaint

December 22, 2005.

Take notice that on December 19, 2005, the California Electricity Oversight Board, the People of the State of California and the California Department of Water Resources (collectively, California State Parties), filed a complaint requesting Fast Tract Processing against Calpine Energy Services, LP., Calpine Corporation, Power Contract Financing, LLC., and Gilroy Energy Center, LLC., (collectively, Calpine). Specifically, California State Parties request the Commission to require Calpine to continue to provide service under a certain Master Power Purchase and Sale Agreement Amended and Restated Confirmation Letter until December 31, 2009.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on January 19, 2006.

Magalie R. Salas,
Secretary.

[FR Doc. E5-8165 Filed 12-30-05; 8:45 am]

BILLING CODE 6717-01-P